DEPARTMENT OF AGRICULTURE

Grain Inspection, Packers and Stockyards Administration

[05-MN-C]

Opportunity To Comment on the Applicants for the Minnesota Area

AGENCY: Grain Inspection, Packers and Stockyards Administration, USDA.

ACTION: Notice.

SUMMARY: GIPSA requests comments on the applicants for designation to provide official services in the Minnesota area.

DATES: Comments must be received on or before October 18, 2005.

ADDRESSES: We invite you to submit comments on the applicants by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Comments: All comments will be available for public inspection at the office above during regular business hours (7 CFR 1.27(b)).

FOR FURTHER INFORMATION CONTACT: Janet M. Hart at 202-720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the August 17, 2005, Federal Register (70 FR 48370), GIPSA announced that Minnesota Department of Agriculture asked GIPSA for a voluntary cancellation of their designation for domestic services, effective November 9, 2005. Subsequently, Minnesota informed GIPSA that they would continue to provide services until December 31, 2005. Minnesota's designation will cease effective December 31, 2005, and GIPSA asked persons interested in providing official services in Minnesota, except the export locations, to submit an application for designation by September 16, 2005.

There were nine applicants for the Minnesota area: Grain Inspection, Inc. (Jamestown), Mid-Iowa Grain Inspection, Inc. (Mid-Iowa), North Dakota Grain Inspection Service, Inc. (North Dakota), Northern Plains Grain Inspection Service, Inc. (Northern Plains), D. R. Schaal Agency, Inc. (Schaal), Sioux City Inspection and Weighing Service Company (Sioux City), all officially designated agencies; a company proposing to do business as Minnesota Grain Inspection, Inc. (Minnesota Grain) a subsidiary of Société Générale de Surveillance (SGS) North America, Inc., and a company proposing to do business as State Grain Inspection, Inc. (State Grain) a subsidiary of National Quality Inspection, Inc. Minnesota Department of Agriculture applied for designation to provide laboratory services only.

Jamestown applied for designation in Clay, Becker, Hubbard, Cass, Wilkin, Otter Tail, Wadena, Crow Wing, Traverse, Grant, Douglas, Todd, Morrison, Mille Lacs, Kanabec, Pine, Big Stone, Stevens, Pope, Stearns, Benton, Isanti, Chisago, Swift, Kandiyohi, Meeker, Wright, Sherburne, Anoka, Lac Qui Parle, Yellow Medicine, Chippewa, Renville, McLeod, Carver, Hennepin, Ramsey, Washington, Sibley, Scott, Dakota, Lincoln, Lyon, Redwood, Brown, Nicollet, Le Sueur, Rice, Goodhue, Wabasha, Pipestone, Murray, Cottonwood, Watonwan, Blue Earth, Waseca, Steele, Dodge, Olmstead, Winona, Rock, Nobles, Jackson, Martin, Faribault, Freeborn, Mower, Fillmore, and Houston Counties, Minnesota.

Mid-Iowa applied for designation in Washington, Scott, Dakota, Goodhue, Wabasha, Olmstead, Winona, and Houston Counties, Minnesota.

Minnesota Grain applied for designation in the entire State of Minnesota.

Minnesota applied for laboratory services only, in the entire State.

North Dakota applied for designation in Koochiching, St. Louis, Lake, Cook, Itasca, Norman, Mahnomen, Hubbard, Cass, Clay, Becker, Wadena, Crow Wing, Aitkin, Carlton, Wilkin, Otter Tail, Traverse, Grant, Douglas, Todd, Morrison, Mille Lacs, Kanabec, Pine, Stevens, Pope, Stearns, Benton, Sherburne, Isanti, Chisago, Big Stone, Swift, Kandiyohi, Meeker, Wright, Anoka, Washington, Lac Qui Parle, Chippewa, McLeod, Carver, Hennepin, Ramsey, Sibley, Scott, Dakota, Goodhue, Wabash, and Winona Counties, Minnesota.

Northern Plains applied for designation in Kittson, Roseau, Lake of the Woods, Koochiching, Marshall, Beltrami, Itasca, Polk, Pennington, Red Lake, Clearwater Hubbard, and Cass Counties, Minnesota.

Schaal applied for designation in Watonwan, Blue Earth, Waseca, Steele, Martin, Faribault, Freeborn, Mower Counties, Minnesota.

Sioux City applied for designation in Chippewa, Yellow Medicine, Renville, Lincoln, Lyon, Redwood, Brown, Nicollet, Pipestone, Murray, Cottonwood, Watonwan, Blue Earth, Rock, Nobles, Jackson, Martin, and Faribault Counties, Minnesota.

State Grain applied for designation in Hennepin, Ramsey, Washington, Carver, Scott, Dakota, Brown, Nicollet, Le Sueur, Rice, Goodhue, Watonwan, Blue Earth, Waseca, Steele, Dodge, Martin, and Faribault Counties; and Jackson County, east of Highway 29, Minnesota.

All of the applicants named above indicated they would be willing to accept more or less area in order to provide needed service to all requestors.

GIPSA is publishing this notice to provide interested persons the opportunity to present comments concerning the applicants. Substantive comments citing reasons and pertinent data for support or objection to the designation of the applicants will be considered in the designation process. All comments must be submitted to the Compliance Division at the above address. Comments and other available information will be considered in making a final decision. GIPSA will publish notice of the final decision in the Federal Register.

Authority: Pub. L. 94-582, 90 Stat. 2867, as amended (7 U.S.C. 71 et seq.).

Patricia Donohue-Galvin,
Acting Administrator, Grain Inspection, Packers and Stockyards Administration.

[FR Doc. 05-19658 Filed 9-30-05; 8:45 am]

BILLING CODE 3410-EN-P